DEPARTMENT OF COMMERCE

National Oceanic and Atmospheric Administration

50 CFR Part 660

[Docket No. 060824226-6322-02]

RIN 0648-AX30

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to groundfish management measures; request for comments.

SUMMARY: This final rule announces inseason changes to management measures in the Pacific Coast groundfish fisheries including: trip limit adjustments; the reopening of the Pacific whiting primary seasons for the shore-based, catcher/processor, and mothership sectors; bycatch limit increases; and modifications to the trawl Rockfish Conservation Areas. These routine actions, are authorized by the Pacific Coast Groundfish Fishery Management Plan (FMP), and are intended to allow fisheries to access more abundant groundfish stocks while protecting overfished and depleted stocks.

DATES: Effective 0001 hours (local time) October 10, 2008. Comments on this action must be received no later than October 29, 2008.

ADDRESSES: You may submit comments, identified by RIN 0648-AX30 by any of the following methods:

• Electronic Submissions: Submit all electronic public comments via the Federal eRulemaking Portal http://www.regulations.gov.

• Fax: 206-526-6736, Attn: Becky Renko.

• Mail: D. Robert Lohn, Administrator, Northwest Region, NMFS, Attn: Becky Renko, 7600 Sand Point Way NE, Seattle, WA 98115-0070.

Instructions: All comments received are a part of the public record and will generally be posted to http://www.regulations.gov without change. All personal identifying information (for example, name, address, etc.) voluntarily submitted by the commenter may be publicly accessible. Do not submit confidential business information, or otherwise sensitive or protected information. NMFS will accept anonymous comments (enter N/A in the required fields if you wish to remain anonymous). Attachments to electronic comments will be accepted in Microsoft Word, Excel, WordPerfect, or Adobe PDF file formats only.

Copies of additional reports referred to in this document may also be obtained from the Pacific Fishery Management Council(Council). Copies of the Record of Decision (ROD), final regulatory flexibility analysis (FRFA), and the Small Entity Compliance Guide are available from D. Robert Lohn, Administrator, Northwest Region (Regional Administrator), NMFS, 7600 Sand Point Way, NE, Seattle, WA 98115-0070.

FOR FURTHER INFORMATION CONTACT: Becky Renko (Northwest Region, NMFS) 206-526-6110.

SUPPLEMENTARY INFORMATION: Electronic Access: This final rule is accessible via the Internet at the Office of the Federal Register's Website at http://www.gpoaccess.gov/fr/index.html. Background information and documents are available at the Council's website at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Council and are implemented by NMFS. A proposed rule to implement the 2007 2008 specifications and management measures for the Pacific Coast groundfish fishery and Amendment 16 4 of the FMP was published on September 29, 2006 (71 FR 57764). The final rule to implement the 2007 2008 specifications and management measures for the Pacific Coast Groundfish Fishery was published on December 29, 2006 (71 FR 78638). These specifications and management measures are codified in 50 CFR part 660, subpart G. The final rule was subsequently amended on: March 20, 2007 (72 FR 13043); April 18, 2007 (72 FR 19390); July 5, 2007 (72 FR 36617); August 3, 2007 (72 FR 43193); September 18, 2007 (72 FR 53165); October 4, 2007 (72 FR 56664); December 4, 2007 (72 FR 68097); December 18, 2007 (72 FR 71583); April 18, 2008 (73 FR 21057), and July 24, 2008 (73 FR 43139).

Inseason adjustments to the current groundfish management measures were recommended by the Council in consultation with the Pacific Coast Treaty Indian Tribes and the States of Washington, Oregon, and California, at the Council's September 10 14, 2008, meeting in Boise, Idaho. The Pacific Council recommended the following adjustments to current groundfish management measures in response to updated fishery information: (1) increase the 2008 canary rockfish and widow rockfish bycatch limits for the non-tribal sectors of the whiting fishery; (2) reopen the 2008 non-tribal whiting primary season for the catcher/processor, mothership, and shore-based sectors; (3) move the shoreward boundary of the trawl Rockfish Conservation Area (RCA) north of 40°10.00' north latitude from 60-fm (110-m) to 75-fm (137-m), with the exception of the areas north of Cape Alava (48°10.00' north latitude) and between Cape Arago (4°20.83' north latitude) and Humbug mountain (42°40.50' north latitude); (4) coastwide, increase large footrope (and small footrope in the north) trawl trip limits for petrale sole and Dover sole for period 6; (5) increase small footrope chilipepper rockfish limits in the south; (6) increase the weekly and monthly cumulative limits for sablefish in the limited entry fixed gear daily trip limit fishery north of 36°00.00' north latitude; (7) increase shelf rockfish limits for open access gears south of Point Conception (34°27.00' north latitude) and, (8) take action to close the recreational fisheries off the State of California in the North and North Central management areas.

Catch of canary rockfish by scientific research vessels and catch in the limited entry trawl fisheries has been lower than was projected earlier in 2008. Scientific research catch projections made at the beginning of the year indicated that 5.5 mt of canary rockfish would be taken as scientific research catch in 2008, with 5.2 mt estimated to be taken in the Northwest Fishery Science Center's bottom trawl survey. To prevent an overfished species optimum yield (OY) from being exceeded, the amount projected to be taken during scientific research activities is not available to the groundfish fisheries until the activities are completed or near completion. NMFS and the Council have a better estimate of what is actually taken and the remainder can be released to the fishery.

When the Council considered inseason measures at its September 2008 meeting, the Northwest Fishery Science Center's bottom trawl survey was nearing completion and had passed most of the locations where previous surveys had encountered an abundance of canary rockfish. Updated projections from the bottom trawl survey (data through September 10, 2008) indicated that less than 2.6 mt of canary rockfish would be taken in the Northwest Fishery Science Center's bottom trawl survey in 2008. When combined with catch projections from other scientific research work, the revised projection for scientific research catch of canary rockfish is 2.9 mt. The revised projection is 2.6 mt less than the earlier projection.

Because catch projections early in the year use historical data to project effort, they are revised as the fishing year progresses and current-year data becomes available. Actual catch records indicate that trawl effort in areas shoreward of the trawl RCA north of 40°10.00' north latitude has been lower than projected. Implementation of a 60-fm (110-m) shoreward boundary in much of this area was intended to reduce incidental catch of canary rockfish, but may have discouraged more effort in the north than had been expected. Effort reductions may also be the result of vessels shifting to other trawl opportunities such as pink shrimp.

Catch projections for canary rockfish are in part based on a historical understanding of fishing effort. Fishing effort reductions resulted in less canary rockfish being taken than had been projected earlier in the year. Updated projections indicate that if no inseason adjustment were made, 3.5 mt of canary rockfish would be unharvested at the end of 2008 due to lower than projected commercial and scientific research catch. Given the availability of canary rockfish, the Council considered inseason adjustments to bycatch limits, trip limits, and RCA restrictions for the Pacific whiting primary season fisheries, and the limited entry bottom trawl fishery.

Pacific Whiting Fishery

Bycatch limits have been used to restrict the catch of overfished species, particularly canary, darkblotched and widow rockfish, in the non-tribal Pacific whiting fisheries. With bycatch limits, the industry has the opportunity to harvest a larger Pacific whiting OY, providing the incidental catch of overfished species does not exceed the adopted bycatch limits. If a bycatch limit is reached, all non-tribal sectors of the whiting fishery are closed. For 2008, the following bycatch limits were specified for the non-tribal Pacific whiting sectors: 275 mt for widow rockfish, 4.7 mt for canary rockfish, and 40 mt for darkblotched rockfish.

The 2008 Pacific whiting primary seasons were closed for the catcher/processor, mothership and shore-based sectors on August 19, 2008 (September 17, 2008; 73 FR 53763) when catch estimates indicated that the 4.7 mt bycatch limit for canary rockfish had been reached. When the fisheries were closed the shore-based sector had taken only 35.5 percent of its Pacific whiting allocation, the catcher/processor sector had taken 62.3 percent of its allocation, and the mothership sector had taken 84.0 percent of its allocation.

At its September meeting, the Council considered increasing the canary and widow rockfish bycatch limits and re-opening of the non-tribal sectors of the Pacific whiting fishery. Following discussion and public testimony, the Council recommended increasing the widow rockfish bycatch limit by 12 metric tons (from 275 mt to 287 mt) and increasing the canary rockfish bycatch limit by 2 metric tons (from 4.7 mt to 6.7 mt). With the Canary rockfish bycatch limit the Council recommended that the limit be raised by 1.7 mt (to 6.4 mt) upon reopening of the fishery then increase by 0.3 mt (to 6.7 mt) two weeks following the re-opening, but no later than October 26, 2008.

The Council considered the incremental increase of canary rockfish bycatch limits as a conservation measure. Historical data indicates that bycatch rates tend to be higher at the start of the Pacific whiting fisheries. As the fishery reopens, fishers will need to locate harvestable aggregations of Pacific whiting while minimizing the incidental catch of canary and widow rockfish. Increasing the bycatch limit two weeks after the fishery re-opens, when the incidental catch rates are expected to be lower, is expected to allow a greater proportion of the Pacific whiting allocations to be harvested. In addition, the Council expressed concern about stopping the fishery before a bycatch limit is exceeded so as not to exceed a rebuilding based OY. Increasing the bycatch limit after two weeks would provide a buffer while catch data were gathered and fishing patterns are established and understood. A 0.3 mt buffer at start-up would provide managers with an increased degree of certainty that fishery can be closed without going over the bycatch limit.

When the Council considered possible reopening dates, it indicated that reopening the fishery as quickly as possible would be beneficial to the fishery participants because the aggregations of whiting begin to move into deeper waters and disperse later in the year, and may result in increased bycatch rates for non-whiting species, and; because late autumn weather is more dangerous for smaller vessels. During Council discussion, the Council recognized the need to consider the tracking and monitoring of catch, particularly of overfished species, when reopening the fisheries.

In 2008, a maximized retention and monitoring program was managed under federally managed exempted fishing permits (EFP). Most vessels in the shore-based sector operated under EFPs which allowed the sorting of groundfish catch to be delayed and catch in excess of cumulative trip limits and prohibited species catch retained until offloading. Retaining unsorted catch is otherwise prohibited by regulations at 50 CFR 660.306(a)(10) and 50 CFR 660.306(a)(2). EFPs were also issued to approximately 15 first receivers to allow first receivers to possess more than a single cumulative limit of a particular species, per vessel, per applicable cumulative limit period. The possession of catch in excess of the cumulative limits is otherwise prohibited by regulations at 50 CFR 660.306(a)(10).

Any vessel fishing under an EFP, has been required to have and use an electronic monitoring system (EMS). The EMS is a video monitoring system that allows for the integrity of maximized catch retention requirements to be maintained. First receiver's that accept unsorted Pacific whiting catch from vessels fishing under an EFP have been required to procure the service of a NMFS certified catch monitor to oversee the sorting, weighing, and recordkeeping process, as well as to gather information on incidentally caught salmon. Catch monitors are necessary to verify the accuracy of electronic fish ticket data used to manage the Pacific whiting shoreside fishery such that inaccurate or delayed information does not result in any fishery specifications (bycatch limits, species allocations, OYs, and biological opinion thresholds) being exceeded.

Because of the need for accurate monitoring of bycatch limits to provide the data NMFS needs to monitor the fishery and close in time to keep within the bycatch limits, NMFS has determined that adequate time is needed to hire, train and deploy catch monitors. In addition, time is needed to hire and train observers for the catcher/processor and mothership sectors, to reissue EFPs and to conduct onsite inspections of new first receivers. NMFS has determined that the earliest date that the fisheries can be reopened with adequate monitoring is October 12, 2008. Therefore, this notice announces: the reopening of the fishery at 0001 hours on October 12, 2008; an increase in the bycatch limit for widow to 287 mt effective on October 12, 2008; an increase in the canary rockfish bycatch limit to 6.4 mt on October 12, 2008; and an increase in the canary rockfish bycatch limit to 6.7 effective October 26, 2008.

Limited Entry Bottom Trawl North of 40°10.00' North Latitude

Updated catch projections based on landing data through August 30, 2008, indicate that the catch of several target species north of 40°10.00' north latitude are lower than previously projected. Because trawl opportunity in the north has been severely constrained by measures to rebuild overfished species, the Council indicated that there was a need to allow the fishers an opportunity to fish. Because catch projections early in the year use historical data to project effort, they are revised as the fishing year progresses and current year data becomes available. When compared to projections available at the Council's June 2008 meeting, the catch of several target species, including Dover sole, arrowtooth flounder, petrale sole and other flatfish was lower than expected.

Because the catch of target species and overfished species has been lower than expected, the Council considered liberalizing the RCA boundaries in the north and increasing target species trip limits. Two different approaches for modifying the RCA boundaries were considered. The first approach considered reopening the areas shoreward of the trawl RCA north of Cape Alava (48°10.00' north latitude) and between Cape Arago (43°20.83' north latitude) and Humbug mountain (42°40.50' north latitude) to 60-fm (110-m) beginning October 1 (or as early as possible) through the end of the year. The second approach considered the possibility of shifting the shoreward boundary of the RCA in the north to 75-fm (137-m) while leaving the area north of Cape Alava and the area between Cape Arago and Humbug mountain closed beginning October 1 (or as early as possible) through the end of the year. After consideration of the availability of canary rockfish and the bycatch implications of the different approaches, the Council recommended that the shoreward boundary of the trawl RCA be moved from 60-fm (110 m) to 75-fm (137 m) in areas north of 40°deg;10.00' north latitude as early as possible, but the areas north of Cape Alava and between Cape Arago and Humbug mountain remain closed. The Council identified concerns about the incidental canary rockfish catch relative to the limited benefit of opening closed areas north of Cape Alava and between Cape Arago and Humbug mountain. The Council also recommended increasing the petrale sole limit in the north for vessels using large and small footrope trawl gear from 30,000 lbs (13.6 mt) per two months to 45,000 lbs (20.41 mt) per two months in period 6, and increasing Dover sole in the north for vessels using large and small footrope trawl gear from 80,000 lbs (36.3 mt) per two months to 90,000 lbs (40.8 mt) per two months in period 6.

Limited Entry Trawl South of 40°deg;10.00' North Latitude

The Council considered increasing the petrale sole, Dover sole, and chilipepper rockfish trip limits in the area south of 40°10.00' north latitude. West Coast Groundfish Observer program data, provided by the NMFS Northwest Fishery Science Center, identified a larger than expected chilipepper rockfish discard rate for small footrope trawl gear in the area south of 40°10.00' north latitude. Rates were particularly high in the areas shoreward of the RCA. Because chilipepper rockfish co-occur with bocaccio and to a lesser degree with cowcod, targeting of chilipepper rockfish has been constrained. Industry participants requested that the Council consider increasing the small footrope trawl gear trip limit to allow the landing of incidentally caught chilipepper rockfish. After consideration of the potential impacts on bocaccio and cowcod projected to result from a modest increase in the trip limit, the Council recommended increasing the chilipepper rockfish limit for small footrope trawl gear in the south from 2,000 lbs (0.9 mt) per two months to 5,000 lbs (2.3 mt) per two months in period 6.

Because the catch of several target species and overfished species has been lower than expected, the Council considered increasing trip limits for petrale sole and Dover sole. The Council recommended increasing petrale sole south of 40°10.00' north latitude from 50,000 lbs (22.6 mt) per two months to 65,000 lbs (29.5 mt) per two months in period 6, and increasing the Dover sole from 80,000 lbs (36.3 mt) per two months to 90,000 lbs (40.8 mt) per two months in period 6.

Limited Entry Fixed Gear North of 36° North Latitude

The Council recommended increasing the daily limit in the limited entry fixed gear sablefish daily trip limit (DTL) fishery north of 36° north latitude in June from 300-lbs (0.14-mt) per day to 500-lbs (0.23-mt) per day, which became effective August 1. Though limited, data indicates that catch in the DTL fishery is less than the allocation, and has been substantially less than the allocation in recent years. Using historical participation and catch information, the potential increase in the weekly and bimonthly limit for period 6 was evaluated. Because the catches would remain within the limited entry DTL allocation if the 2-month DTL limit were raised from 5,000-lbs (2.3-mt) to 6,500-lbs (2.9-mt) in period 6, the Council recommended raising the DTL limit north of 36 north latitude. The higher limit is expected to increase fishing opportunity without exceeding the allocation. The Council also recommended raising the corresponding weekly limit from 1,000 lb (0.5 mt) per week to 1,500 lb (0.7 mt) per week in period 6.

Open Access South of 34°27' North Latitude

The Council considered an increase in the shelf rockfish trip limits south of Point Conception (34°27' north latitude) from 750-lb (0.3-mt) 2 months to 1,000-lb (0.5-mt) 2 months because fishing effort has been lower than projected. Data through June 30, 2008, indicates that the shelf rockfish landings are approximately 25 percent lower than in previous years and well below the OY. Higher fuel costs and vessel monitoring system requirements may have contributed to the reduction in effort.

In recent years, shelf rockfish trip limits have been substantially reduced over historical levels to reduce the catch of overfished species found on the continental shelf. A variety of information was examined to understand potential impacts of increasing shelf rockfish trip limits. Observer data south of Point Conception indicated low overfished species bycatch, however only limited data were available. An analysis prepared by California Department of Fish and Game (CDFG) indicated that the proposed trip limits change is likely to result in a 6.1 percent increase in the projected catch of shelf rockfish and would not be expected to result in the bocaccio or widow rockfish OYs being exceeded. The Council considered potential effort shifts as a result of higher trip limits south of Point Conception, but did not find evidence that the modest increase would create an economic incentive that is likely to result in an effort shift from the north. After public comment and discussion, the Council recommended increasing the shelf rockfish trip limit south of 34°27' north latitude to 1,000-lbs (0.5-mt) per two months in period 6.

California Recreational Fishery

Data available through August 10, 2008, indicated that the California harvest guideline for yelloweye rockfish was projected to be exceeded, therefore, CDFG took action to close the recreational fishery in the North and North Central Regions on September 2, 2008. As a result of the recreational closure, the California recreational fishery is projected to stay within their harvest guidelines for overfished species. CDFG requested and the Council recommended that NMFS Take conforming federal action to close the California recreational fishery in the North and North Central Management Area north of Point Arena.

Classification

These actions are taken under the authority of 50 CFR 660.370(c) and are exempt from review under Executive Order 12866.

These actions are authorized by the Pacific Coast groundfish FMP and its implementing regulations, and are based on the most recent data available. The aggregate data, upon which these actions are based, are available for public inspection at the Office of the Administrator, Northwest Region, NMFS, (see ADDRESSES) during business hours.

For the following reasons, NMFS finds good cause to waive prior public notice and comment on the revisions to the 2008 groundfish management measures under 5 U.S.C. 553(b)(B) because notice and comment would be impracticable and contrary to the public interest. Also for the same reasons, NMFS finds good cause to waive part of the 30 day delay in effectiveness pursuant to 5 U.S.C. 553(d)(1) and 5 U.S.C. 553(d)(3).

The data upon which these recommendations were based was provided to the Council and the Council made its recommendations at its September 8-12, 2008, meeting in Boise, Idaho. There was not sufficient time after that meeting to draft this notice and undergo proposed and final rulemaking before these actions need to be in effect. For the actions to be implemented in this notice, affording the time necessary for prior notice and opportunity for public comment would be impractical and contrary to the public interest because it would prevent the Agency from managing fisheries using the best available science to approach without exceeding the OYs for Federally managed species. The inseason adjustments to management measures in this document affect commercial groundfish fisheries off Washington, Oregon, and California.

Changes to the non-tribal whiting canary rockfish bycatch limit must be implemented and the non-tribal fishery must be reopened as soon as possible, to relieve a restriction and allow fishermen the opportunity to harvest the remainder of the 2008 Pacific whiting OY. It would be contrary to the public interest to wait to implement these changes until after public notice and comment. Reopening the fishery as quickly as possible would be beneficial to the fishery participants because the aggregations of whiting begin to move into deeper waters and disperse later in the year, and this movement may result in increased bycatch rates for non-whiting species, and; because late autumn weather is more dangerous for smaller vessels. Taking the time to do provide notice and comment would eliminate the opportunity for many if not all vessels to participate in the fishery. The whiting fishery contributes a large amount of revenue to the coastal communities of Washington and Oregon. Leaving 101,694-mt (43.7 percent) of the whiting OY unharvested would sacrifice millions of dollars and hundreds of jobs for fishermen and coastal communities.

Projected effects of reopening the nontribal whiting fishery and increasing the non-tribal Pacific whiting widow and canary rockfish bycatch limits are within projected mortality for overfished species and other groundfish species. Failing to take these actions in a timely manner would result in unnecessary restriction of fisheries that are important to coastal communities and is therefore contrary to the public interest.

The adjustments to management measures in this document affect: limited entry commercial trawl and fixed gear fisheries off Washington, Oregon, and California and open access fisheries off California in the area south of 34°27' North latitude, and recreational fisheries off northern California. Adjustments to management measures must be implemented in a timely manner, by October 1, 2008, or as soon as possible afterward to allow: fishers an opportunity to harvest higher trip limits for species where the catch is tracking behind the projected catch levels for 2008; and to assure that recreational fishing in areas closed by CDFG or adjacent federal waters do not result in an overfished species OY being exceeded.

Changes to the cumulative limits in the limited entry trawl fishery, limited entry fixed gear fishery and the open access fishery are needed to relieve a restriction by allowing fishermen increased opportunities to harvest available healthy stocks. Increased opportunities to harvest available healthy stocks while not exceeding the OYs for overfished species meets the objective of the Pacific Coast Groundfish FMP to allow fisheries to approach, but not exceed, OYs. It would be contrary to the public interest to wait to implement these changes until after public notice and comment, because making this regulatory change by October 1, or as soon as possible after, relieves a regulatory restriction for fisheries that are important to coastal communities. Without these inseason measures, there is an increased risk of causing economic harm to fishing communities. Delaying these changes would keep management measures in place that are not based on the best available science and would impair achievement of one of the Pacific Coast Groundfish FMP objectives of providing for year-round harvest opportunities or extending fishing opportunities as long as practicable during the fishing year.

List of Subjects in 50 CFR Part 660

Fisheries, Fishing, Indians.

Dated: October 6, 2008.
Emily H. Menashes,
Acting Director, Office of Sustainable Fisheries, National Marine Fisheries Service.

For the reasons set out in this preamble, 50 CFR part 660 is amended as follows:

PART 660—FISHERIES OFF WEST COAST STATES

1. The authority citation for part 660 continues to read as follows:

Authority: 16 U.S.C. 1801 et seq.

2. In § 660.373 paragraphs (b)(1)(iii) and (b)(4) are revised to read as follows:

§ 660.373 Pacific whiting (whiting) fishery management.

(b) * * *

(1) * * *

(iii) Primary whiting seasons. After the start of a primary season for a sector of the whiting fishery, the season remains open for that sector until the quota is taken or a bycatch limit is reached and the fishery season for that sector is closed by NMFS. The primary seasons for the whiting fishery are as follows:

(A) Catcher/processor sector - May 15 to August 19, 2008; reopening on October 12, 2008.

(B) Mothership sector - May 15 to August 19, 2008; reopening on October 12, 2008.

(C) Shore-based sector

(1) June 15 to August 19, 2008 and reopening on October 12, 2008 north of 42° N. lat.; April 1 to May 21, 2008, June 15 to August 19, 2008 and reopening on October 12, 2008 between 42°-40°30' N. lat.

(2) South of 40°30' N. lat. the primary season is April 15 to May 21, 2008, June 15 to August 19, 2008 and reopening on October 12, 2008.

(4) Bycatch limits in the whiting fishery. The bycatch limits for the whiting fishery may be used inseason to close a sector or sectors of the whiting fishery to achieve the rebuilding of an overfished or depleted stock, under routine management measure authority at § 660.370(c)(1)(ii). These limits are routine management measures under § 660.370(c) and, as such, may be adjusted inseason or may have new species added to the list of those with bycatch limits. The whiting fishery bycatch limits for the sectors identified in § 660.323(a) are: 6.4 mt of canary rockfish on October 12, 2008; 6.7 mt of canary rockfish on October 26, 2008; 287 mt of widow rockfish; and 40 mt of darkblotched rockfish.

3. In § 660.384 paragraphs (c)(3)(i)(A)(1)and (2) are revised to read as follows:

§ 660.384 Recreational fishery management measures.

(c)* * *

(3)* * *

(i) * * *

(A) * * *

(1) Between 42° N. lat. (California/Oregon border) and 40°10.00' N. lat. (North Region), recreational fishing for all groundfish (except “other flatfish” as specified in paragraph (c)(3)(iv) of this section) is prohibited seaward of the 20 fm (37 m) depth contour along the mainland coast and along islands and offshore seamounts from May 1 through October 13, 2008; and is closed entirely from January 1 through April 30, and October 14, 2008 through December 31, 2008 (i.e., prohibited seaward of the shoreline).

(2) Between 40°10' N. lat. and 37°11' N. lat. (North Central Region), recreational fishing for all groundfish (except “other flatfish” as specified in paragraph (c)(3)(iv) of this section) is prohibited seaward of the 20 fm (37 m) depth contour along the mainland coast and along islands and offshore seamounts from June 1 through October 13, 2008; and is closed entirely from January 1 through May 31, and October 14, 2008 through December 31, 2008 (i.e., prohibited seaward of the shoreline). Closures around the Farallon Islands (see paragraph (c)(3)(i)(C) of this section) and Cordell Banks (see paragraph (c)(3)(i)(D) of this section) also apply in this area.

4. Tables 3 (North), 3 (South), 4 (North), 4 (South), and 5 (South) to part 660 subpart G are revised to read as follows:

[FR Doc. E8-24368 Filed 10-10-08; 8:45 am]

BILLING CODE 3510-22-S